DEPARTMENT OF COMMERCE

International Trade Administration

[A-427-801, A-428-801, A-475-801, A-588-804, A-559-801, A-412-801]

Notice of Amended Final Results of Antidumping Duty Administrative Reviews: Ball Bearings and Parts Thereof from Japan

AGENCY: Import Administration, International Trade Administration, Department of Commerce.

SUMMARY: On September 16, 2005, the Department of Commerce published in the Federal Register the final results of the administrative reviews of the antidumping duty orders on ball bearings and parts thereof from France, Germany, Italy, Japan, Singapore, and the United Kingdom. The period of review is May 1, 2003, through April 30, 2004. Based on the correction of certain ministerial errors, we have changed the margins for Nippon Pillow Block Co., Ltd., and NSK Ltd. for the administrative review of ball bearings and parts thereof from Japan.

EFFECTIVE DATE: October 21, 2005.

FOR FURTHER INFORMATION CONTACT: Dunyako Ahmadu, Fred Aziz, Jeff Frank, or Thomas Schauer, Import Administration, International Trade Administration, U.S. Department of Commerce, 14th Street and Constitution Avenue, N.W., Washington, DC 20230; telephone: (202) 482-4733.

SUPPLEMENTARY INFORMATION:

Background

On September 16, 2005, the Department of Commerce (the Department) published in the Federal Register the final results of the administrative reviews of the antidumping duty orders on ball bearings and parts thereof (ball bearings) from France, Germany, Italy, Japan, Singapore, and the United Kingdom (70 FR 54711) (Final Results).

We received timely allegations of ministerial errors from Nippon Pillow Block Co., Ltd., (NPB), NSK Ltd. (NSK), NTN Corporation (NTN), and Nankai Seiko Co. Ltd. (SMT). In its comments dated September 16, 2005, NSK alleged that the Department erred in that it inadvertently assigned the incorrect level of trade for certain home-market sales. We agree with the alleged error and have amended the final results to correct the error.

In its comments dated September 19, 2005, NPB alleged that the Department erred in that it inadvertently used the incorrect code to designate housed bearings sold in the United States. We agree with the alleged error and have amended the final results to correct the error.

In its comments dated September 19, 2005, NTN alleged that the Department should correct the draft liquidation instructions it prepared for NTN to reflect the correct importer of record. Although we agree with the alleged error and have corrected the draft liquidation instructions accordingly, this error does not affect our calculation of NTN's margin.

In its comments dated September 19, 2005, SMT alleged that the Department made a ministerial error by treating contemporaneity as a more important tie-breaker than the difference-in-merchandise adjustment. We do not agree that we made an error. Furthermore, SMT's comments of an alleged error were not ministerial in nature as defined by 19 CFR § 351.225(f). Therefore, we have not changed our calculation of SMT's margin. For a complete discussion of our response to SMT's allegation, please see the memorandum to Laurie Parkhill dated October 14, 2005.

Amended Final Results of Review

As a result of the correction of clerical errors, the following weighted-average margins exist for exports of ball bearings by NPB and NSK for the period May 1, 2003, through April 30, 2004:

Company | Margin (percent)
NPB | 23.57
NSK Ltd. | 8.25

The Department will determine, and the U.S. Bureau of Customs and Border Protection (CBP) shall assess antidumping duties on all appropriate entries. We will issue appropriate assessment instructions directly to CBP within 15 days of publication of these amended final results of review. Where the importer-/customer-specific assessment rate or amount is above de minimis, we will instruct CBP to assess duties on all entries of subject merchandise by that importer or for that customer.

We will also direct CBP to collect cash deposits of estimated antidumping duties on all appropriate entries in accordance with the procedures discussed in the Final Results and at the rates as amended by this notice. The amended deposit requirements are effective for all shipments of the subject merchandise entered, or withdrawn from warehouse, for consumption on or after the date these amended final results are published in the Federal Register.

We are issuing and publishing these determinations and notice in accordance with sections 751(a)(1) and 777(i) of the Tariff Act of 1930, as amended, and 19 CFR § 351.224(e).

Dated: October 14, 2005.
Joseph A. Spetrini,
Acting Assistant Secretary for Import Administration.

[FR Doc. E5-5821 Filed 10-20-05; 8:45 am]

BILLING CODE 3510-DS-S